DEPARTMENT OF JUSTICE

Antitrust Division

Notice Pursuant to the National Cooperative Research and Production Act of 1993—AllSeen Alliance, Inc.

Notice is hereby given that, on September 23, 2015, pursuant to section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, OmniM2M LLC, Bellevue, WA; ShenZhen Topeast Technology Co., Ltd., Nanshan District, Shenzhen, PEOPLE'S REPUBLIC OF CHINA; Visible Energy Inc., Palo Alto, CA; Fabita s.r.l., S. Quirico (AN), ITALY; Pivotal Software, Inc., Palo Alto, CA; Micosa, Inc., Redwood City, CA; Koninklijke Philips N.V., AE Eindhoven, THE NETHERLANDS; Radialpoint Safecare Inc., Montreal, Quebec, CANADA; Lowe's Companies, Inc., Mooresville, NC; Johnson Controls, Milwaukee, WI; Rakuten, Inc., Shinagawa-ku, Tokyo, JAPAN; TA Technology (Shanghai) Co., Ltd., Shanghai, PEOPLE'S REPUBLIC OF CHINA; sMedio, Inc., Minato-ku, Tokyo, JAPAN; Walter Kidde Portables, LLC, Mebane, NC; Buffalo Inc., Naka-ku, Nagoya, JAPAN; and Beijing HengShengDongYang Technology Co., Ltd., ChaoYang District, Beijing, PEOPLE'S REPUBLIC OF CHINA, have been added as parties to this venture.

Also, Harman International, Stamford, CT; Local Motors, Chandler, AZ; Octoblu, Inc., Tempe, AZ; Vedams, Inc., San Jose, CA; MachineShop, Inc., Boston, MA; ControlBEAM Digital Automation, Irvine, CA; ISI Technology, Charleston, SC; Tellient, San Diego, CA; Ciseco, Nottingham, UNITED KINGDOM; Discretix Technologies Ltd., Kfar Netter, ISRAEL; and Yifang Digital Technology Co., Ltd., Shenzhen, PEOPLE'S REPUBLIC OF CHINA, have withdrawn as parties to this venture.

No other changes have been made in either the membership or planned activity of the group research project. Membership in this group research project remains open, and AllSeen Alliance intends to file additional written notifications disclosing all changes in membership.

On January 29, 2014, AllSeen Alliance filed its original notification pursuant to section 6(a) of the Act. The Department of Justice published a notice in the Federal Register pursuant to section 6(b) of the Act on March 4, 2014 (79 FR 12223).

The last notification was filed with the Department on July 13, 2015. A notice was published in the Federal Register pursuant to section 6(b) of the Act on July 29, 2015 (80 FR 45235).

Patricia A. Brink,
Director of Civil Enforcement, Antitrust Division.

[FR Doc. 2015-27043 Filed 10-22-15; 8:45 am]

BILLING CODE 4410-11-P